DEPARTMENT OF TRANSPORTATION

Federal Aviation Administration

14 CFR Part 39

[Docket No. FAA-2015-1279; Directorate Identifier 2014-NM-049-AD]

RIN 2120-AA64

Airworthiness Directives; BAE SYSTEMS (Operations) Limited Airplanes

AGENCY: Federal Aviation Administration (FAA), DOT.

ACTION: Notice of proposed rulemaking (NPRM).

SUMMARY: We propose to supersede Airworthiness Directive (AD) 2011-21-06 for all BAE SYSTEMS (Operations) Limited Model 4101 airplanes. AD 2011-21-06 currently requires revising the maintenance program. Since we issued AD 2011-21-06, we have determined that the life limit of certain main landing gear components must be reduced, and certain post-repair inspections of critical structure are necessary. This proposed AD would require a new revision of the maintenance/inspection program. We are proposing this AD to prevent failure of certain structurally significant items, including the main landing gear and nose landing gear, which could result in reduced structural integrity of the airplane; and to prevent fuel vapor ignition sources, which could result in a fuel tank explosion and consequent loss of the airplane.

DATES: We must receive comments on this proposed AD by June 22, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact BAE SYSTEMS (Operations) Limited, Customer Information Department, Prestwick International Airport, Ayrshire, KA9 2RW, Scotland, United Kingdom; telephone +44 1292 675207; fax +44 1292 675704; email RApublications@baesystems.com; Internet http://www.baesystems.com/Businesses/RegionalAircraft/index.htm. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1279; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Todd Thompson, Aerospace Engineer, International Branch, ANM-116, Transport Airplane Directorate, FAA, 1601 Lind Avenue SW., Renton, WA 98057-3356; telephone: 425-227-1175; fax 425-227-1149.

SUPPLEMENTARY INFORMATION:

Comments Invited

We invite you to send any written relevant data, views, or arguments about this proposed AD. Send your comments to an address listed under the ADDRESSES section. Include “Docket No. FAA-2015-1279; Directorate Identifier 2014-NM-049-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 23, 2011, we issued AD 2011-21-06, Amendment 39-16829 (76 FR 64788, October 19, 2011). AD 2011-21-06 requires actions intended to address an unsafe condition on BAE SYSTEMS (Operations) Limited Model 4101 airplanes.

Since we issued AD 2011-21-06, Amendment 39-16829 (76 FR 64788, October 19, 2011), we have determined that the life limit of certain main landing gear components must be reduced, and new inspections of certain repairs that affect fatigue strength of critical structure must be added to the maintenance/inspection program.

The European Aviation Safety Agency (EASA), which is the Technical Agent for the Member States of the European Union, has issued EASA Airworthiness Directive 2014-0043, dated February 21, 2014 (referred to after this as the Mandatory Continuing Airworthiness Information, or “the MCAI”), to correct an unsafe condition for the specified products. The MCAI states:

The Jetstream J41 Aircraft Maintenance Manual (AMM), includes the following chapters:

05-10-10 “Airworthiness Limitations”,

05-10-20 “Certification Maintenance Requirements”, and,

05-10-30 “Critical Design Configuration Control Limitations (CDCCL)—Fuel System”.

The maintenance tasks and limitations contained in these chapters have been identified as mandatory actions for continued airworthiness and EASA issued AD 2010-0098 [dated May 27, 2010 (http://ad.easa.europa.eu/ad/2010-0098) which corresponds to FAA AD 2011-21-06, Amendment 39-16829 (79 FR 64788, October 19, 2011)] to require operators to comply with those instructions.

Since that [EASA] AD was issued, BAE Systems (Operations) Ltd issued Revision 37 of the AMM amending Chapter 05-10-10 to revise and reduce the life limit of certain main landing gear components. In addition, Revision 38 of the AMM was issued to amend Chapters 05-10-00 and 05-10-10 introducing inspections to be accomplished after implementation of some repairs affecting fatigue strength of critical structure. Failure to comply with the new and more restrictive actions could result in an unsafe condition.

For the reasons described above, this [EASA] AD, which supersedes EASA AD 2010-0098, requires implementation of the maintenance requirements and/or airworthiness limitations as specified in the defined parts of Chapter 05 of the AMM at Revision 38.

The unsafe condition is the failure of certain structurally significant items, including the main landing gear and nose landing gear, which could result in reduced structural integrity of the airplane; and fuel vapor ignition sources, which could result in a fuel tank explosion and consequent loss of the airplane. You may examine the MCAI in the AD docket on the Internet at http://www.regulations.gov by searching for and locating Docket No. FAA-2015-1279.

Related Service Information Under 1 CFR Part 51

BAE SYSTEMS (Operations) Limited has issued Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 AMM, Revision 38, dated September 15, 2013, which describe procedures for inspections of structurally significant items and the fuel system. The actions described in this service information are intended to correct the unsafe condition identified in the MCAI. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 4 airplanes of U.S. registry.

The actions required by AD 2011-21-06, Amendment 39-16829 (76 FR 64788, October 19, 2011), and retained in this proposed AD take about 1 work-hour per product, at an average labor rate of $85 per work-hour. Based on these figures, the estimated cost of the actions that are required by AD 2011-21-06 is $85 per product.

We also estimate that it would take about 1 work-hour per product to comply with the basic requirements of this proposed AD. The average labor rate is $85 per work-hour. Based on these figures, we estimate the cost of this proposed AD on U.S. operators to be $340, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-21-06, Amendment 39-16829 (76 FR 64788, October 19, 2011), and adding the following new AD:

BAE SYSTEMS (Operations) Limited: Docket No. FAA-2015-1279; Directorate Identifier 2014-NM-049-AD.

(a) Comments Due Date

We must receive comments by June 22, 2015.

(b) Affected ADs

This AD replaces AD 2011-21-06, Amendment 39-16829 (76 FR 64788, October 19, 2011).

(c) Applicability

This AD applies to all BAE SYSTEMS (Operations) Limited Model 4101 airplanes, certificated in any category.

(d) Subject

Air Transport Association (ATA) of America Code 05.

(e) Reason

This AD was prompted by the need to reduce the life limit of certain main landing gear components, and to add certain post-repair inspections of critical structure to the maintenance/inspection program. We are issuing this AD to prevent failure of certain structurally significant items, including the main landing gear and nose landing gear, which could result in reduced structural integrity of the airplane; and to prevent fuel vapor ignition sources, which could result in a fuel tank explosion and consequent loss of the airplane.

(f) Compliance

Comply with this AD within the compliance times specified, unless already done.

(g) Retained Maintenance Program Revision, With No Changes

This paragraph restates the requirements of paragraph (i) of AD 2011-21-06, Amendment 39-16829 (76 FR 64788, October 19, 2011), with no changes. Within 90 days after November 23, 2011 (the effective date of AD 2011-21-06): Revise the maintenance program by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited Jetstream Series 4100 Aircraft Maintenance Manual (AMM), Revision 35, dated February 15, 2011. The initial compliance times for the tasks are at the applicable times specified in paragraphs (g)(1), (g)(2), and (g)(3) of this AD. Doing the actions required by paragraph (i) of this AD terminates the requirements of this paragraph.

(1) For replacement tasks of life limited parts specified in Subject 05-10-10, “Airworthiness Limitations,” of Chapter 05, “Airworthiness Limitations,” of the BAE Systems (Operations) Limited Jetstream Series 4100 AMM, Revision 35, dated February 15, 2011: Prior to the applicable flight cycles (landings) or flight hours (flying hours) on the part specified in the “Mandatory Life Limits” column in Subject 05-10-10, or within 90 days after November 23, 2011 (the effective date of AD 2011-21-06, Amendment 39-16829 (76 FR 64788, October 19, 2011)), whichever occurs later.

(2) For structurally significant item tasks specified in Subject 05-10-10, “Airworthiness Limitations,” of Chapter 05, “Airworthiness Limitations,” of the BAE Systems (Operations) Limited Jetstream Series 4100 AMM, Revision 35, dated February 15, 2011: Prior to the accumulation of the applicable flight cycles specified in the “Initial Inspection” column in Subject 05-10-10, or within 90 days after November 23, 2011 (the effective date of AD 2011-21-06, Amendment 39-16829 (76 FR 64788, October 19, 2011)), whichever occurs later.

(3) For certification maintenance requirements tasks specified in Subject 05-10-20, “Certification Maintenance Requirements,” of Chapter 05, “Airworthiness Limitations,” of the BAE Systems (Operations) Limited Jetstream Series 4100 AMM, Revision 35, dated February 15, 2011: Prior to the accumulation of the applicable flight hours specified in the “Time Between Checks” column in Subject 05-10-20, or within 90 days after November 23, 2011 (the effective date of AD 2011-21-06, Amendment 39-16829 (76 FR 64788, October 19, 2011), whichever occurs later; except for tasks that specify “first flight of the day” in the “Time Between Checks” column in Subject 05-10-20, the initial compliance time is the first flight of the next day after doing the revision required by paragraph (g) of this AD, or within 90 days after November 23, 2011 (the effective date of AD 2011-21-06), whichever occurs later.

(h) Retained Restrictions on Alternative Actions, Intervals, and/or CDCCLs, With a New Exception

This paragraph restates the requirements of paragraph (k) of AD 2011-21-06, Amendment 39-16829 (76 FR 64788, October 19, 2011), with a new exception. Except as required by paragraph (i) of this AD, after accomplishing the revision required by paragraph (g) of this AD, no alternative actions (e.g., inspections), intervals, and/or CDCCLs may be used unless the actions, intervals, and/or CDCCLs are approved as an alternative method of compliance (AMOC) in accordance with the procedures specified in paragraph (l) of this AD.

(i) New Maintenance or Inspection Program Revision

Within 90 days after the effective date of this AD: Revise the maintenance or inspection program, as applicable, by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 AMM, Revision 38, dated September 15, 2013. The initial compliance times for the tasks are at the applicable times specified in paragraphs (i)(1), (i)(2), and (i)(3) of this AD. Doing the actions required by this paragraph terminates the requirements of paragraph (g) of this AD.

(1) For replacement tasks of life limited parts specified in Subject 05-10-10, “Airworthiness Limitations,” of Chapter 05, “Airworthiness Limitations,” of the BAE Systems (Operations) Limited J41 AMM, Revision 38, dated September 15, 2013: Prior to the applicable flight cycles (landings) or flight hours (flying hours) on the part specified in the “Mandatory Life Limits” column in Subject 05-10-10, or within 90 days after the effective date of this AD, whichever occurs later.

(2) For structurally significant item tasks specified in Subject 05-10-10, “Airworthiness Limitations,” of Chapter 05, “Airworthiness Limitations,” of the BAE Systems (Operations) Limited J41 AMM, Revision 38, dated September 15, 2013: Prior to the accumulation of the applicable flight cycles specified in the “Initial Inspection” column in Subject 05-10-10, or within 90 days after the effective date of this AD, whichever occurs later.

(3) For certification maintenance requirements tasks specified in Subject 05-10-20, “Certification Maintenance Requirements,” of Chapter 05, “Airworthiness Limitations,” of the BAE Systems (Operations) Limited J41 AMM, Revision 38, dated September 15, 2013: Prior to the accumulation of the applicable flight hours specified in the “Time Between Checks” column in Subject 05-10-20, or within 90 days after the effective date of this AD, whichever occurs later; except for tasks that specify “first flight of the day” in the “Time Between Checks” column in Subject 05-10-20, the initial compliance time is the first flight of the next day after doing the revision required by paragraph (j) of this AD, or within 90 days the effective date of this AD, whichever occurs later.

(j) New Restrictions on Alternative Actions, Intervals, and/or (CDCCLs)

After the maintenance or inspection program, as applicable, has been revised as required by paragraph (i) of this AD, no alternative actions (e.g., inspections), intervals, and/or CDCCLs may be used unless the actions, intervals, and/or CDCCLs are approved as an AMOC in accordance with the procedures specified in paragraph (l) of this AD.

(k) Credit for Previous Actions

This paragraph restates the provisions of paragraph (j) of AD 2011-21-06, Amendment 39-16829 (76 FR 64788, October 19, 2011). This paragraph provides credit for actions required by paragraph (g) of this AD, if those actions were performed before November 23, 2011 (the effective date of AD 2011-21-06), in accordance with Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited Jetstream Series 4100 AMM, Revision 33, dated February 15, 2010; which are not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, WA 98057-3356; telephone: 425-227-1175; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2011-21-06, Amendment 39-16829 (76 FR 64788, October 19, 2011), are not approved as AMOCs with this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or BAE Systems (Operations) Limited's EASA Design Organization Approval (DOA). If approved by the DOA, the approval must include the DOA-authorized signature.

(m) Related Information

(1) Refer to Mandatory Continuing Airworthiness Information (MCAI) EASA Airworthiness Directive 2014-0043, dated February 21, 2014, for related information. This MCAI may be found in the AD docket on the Internet at http://www.regulations.gov by searching for and locating Docket No. FAA-2015-1279.

(2) For service information identified in this AD, contact BAE SYSTEMS (Operations) Limited, Customer Information Department, Prestwick International Airport, Ayrshire, KA9 2RW, Scotland, United Kingdom; telephone +44 1292 675207; fax +44 1292 675704; email RApublications@baesystems.com; Internet http://www.baesystems.com/Businesses/RegionalAircraft/index.htm. You may view this service information at the FAA, Transport Airplane Directorate, 1601 Lind Avenue SW., Renton, WA. For information on the availability of this material at the FAA, call 425-227-1221.

Issued in Renton, Washington, on April 29, 2015.
Jeffrey E. Duven,
Manager, Transport Airplane Directorate, Aircraft Certification Service.

[FR Doc. 2015-11023 Filed 5-7-15; 8:45 am]

BILLING CODE 4910-13-P